DEPARTMENT OF HEALTH AND HUMAN SERVICES

Centers for Disease Control and Prevention

Subcommittee on Prevention of Intimate Partner Violence and Sexual Violence and the Injury Research Grant Review Committee (IRGRC): Meetings

In accordance with section 10(a)(2) of the Federal Advisory Committee Act (Pub. L. 92-463), the Centers for Disease Control and Prevention (CDC) announces the following subcommittee and conference call committee meetings.

Name: Subcommittee on Prevention of Intimate Partner Violence and Sexual Violence of the IRGRC.

Times and Dates: 6:30 p.m.-9 p.m., June 4, 2000. 8 a.m-4 p.m., June 5, 2000.

Place: The Westin Atlanta Airport, 4736 Best Road, College Park, Georgia 30337

Status: Open: 6:30 p.m.-7 p.m., June 4, 2000. Closed: 7 p.m.-9 p.m., June 4, 2000, through 4 p.m., June 5, 2000.

Purpose: The Subcommittee advises IRGRC on the technical and scientific merit of injury prevention research grant applications on Prevention of Intimate Partner Violence and Sexual Violence.

Matters To Be Discussed: Agenda items include a description of the Subcommittee's responsibilities and review process, and review of grant applications.

Name: Injury Research Grant Review Committee.

Time and Date: 4:30 p.m.-5:30 p.m., June 5, 2000.

Place: The Westin Atlanta Airport, 4736 Best Road, College Park, Georgia 30337

Status: Open: 4:30 p.m.-4:45 p.m., June 5, 2000. Closed: 4:45 p.m.-5:30 p.m., June 5, 2000.

Purpose: This committee is charged with advising the Secretary of Health and Human Services, the Assistant Secretary for Health, and the Director, CDC, regarding the scientific merit and technical feasibility of grant applications received from academic institutions and other public and private profit and nonprofit organizations, including State and local government agencies, to conduct specific injury research that focus on prevention and control and to support injury prevention research centers.

Matters To Be Discussed: Agenda items include the purpose of the meeting and discussion and vote on the report of the Subcommittee on Prevention of Intimate Partner Violence and Sexual Violence.

Beginning at 7 p.m., June 4, through 4 p.m., June 5, the Subcommittee on Prevention of Intimate Partner Violence and Sexual Violence of the IRGRC will meet, and from 4:45-5:30 p.m., June 5, IRGRC will meet to conduct a review of grant applications. These portions of the meeting will be closed to the public in accordance with provisions set forth in section 552b(c)(4) and (6), title 5 U.S.C., and the Determination of the Associate Director for Management and Operations, CDC, pursuant to Pub. L. 92-463.

Agenda items are subject to change as priorities dictate.

Contact Person for More Information: Linda L. Dahlberg, Ph.D., Acting Executive Secretary, IRGRC, National Center for Injury Prevention and Control, CDC, 4770 Buford Highway, NE, M/S K60, Atlanta, Georgia 30341-3724, telephone 770/488-4496.

The Director, Management Analysis and Services Office, has been delegated the authority to sign Federal Register Notices pertaining to announcements of meetings and other committee management activities, for both the Centers for Disease Control and Prevention and the Agency for Toxic Substances and Disease Registry.

Dated: May 3, 2000.
Carolyn J. Russell,
Director, Management Analysis and Services Office, Centers for Disease Control and Prevention (CDC).

[FR Doc. 00-11648 Filed 5-9-00; 8:45 am]

BILLING CODE 4163-18-P